DEPARTMENT OF LABOR

Employment and Training Administration

[TA-W-52,449]

Springs Industries, Inc., Baby Products Division, Gainesville, GA; Notice of Termination of Investigation

Pursuant to section 221 of the Trade Act of 1974, as amended, an investigation was initiated on August 1, 2003, in response to a petition filed by a company official on behalf of workers at Springs Industries, Inc., Baby Products Division, Gainesville, Georgia.

The petitioner has requested that the petition be withdrawn. Consequently, the investigation has been terminated.

Signed at Washington, DC, this 27th day of August, 2003.
Linda G. Poole,
Certifying Officer, Division of Trade Adjustment Assistance.

[FR Doc. 03-24726 Filed 9-29-03; 8:45 am]

BILLING CODE 4510-30-P